FEDERAL HOUSING FINANCE BOARD

[No. 2005-N-03]

Federal Home Loan Bank Members Selected for Community Support Review

AGENCY: Federal Housing Finance Board.

ACTION: Notice.

SUMMARY: The Federal Housing Finance Board (Finance Board) is announcing the Federal Home Loan Bank (Bank) members it has selected for the 2004-05 sixth quarter review cycle under the Finance Board's community support requirements regulation. This notice also prescribes the deadline by which Bank members selected for review must submit Community Support Statements to the Finance Board.

DATES: Bank members selected for the review cycle under the Finance Board's community support requirements regulation must submit completed Community Support Statements to the Finance Board on or before August 30, 2005.

ADDRESSES: Bank members selected for the 2004-05 sixth quarter review cycle under the Finance Board's community support requirements regulation must submit completed Community Support Statements to the Finance Board either by regular mail at the Federal Housing Finance Board, Office of Supervision, Community Investment and Affordable Housing, 1625 Eye Street, NW., Washington, DC 20006-4001, or by electronic mail at FITZGERALDE@FHFB.GOV.

FOR FURTHER INFORMATION CONTACT: Emma J. Fitzgerald, Program Analyst, Office of Supervision, Community Investment and Affordable Housing, by telephone at (202) 408-2874, by electronic mail at FITZGERALDE@FHFB.GOV, or by regular mail at the Federal Housing Finance Board, 1625 Eye Street, NW., Washington, DC 20006-4001.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the August 30, 2005 deadline prescribed in this notice. 12 CFR 944.2(b)(1)(ii) and (c). On or before August 1, 2005, each Bank will notify the members in its district that have been selected for the 2004-05 sixth quarter community support review cycle that they must complete and submit to the Finance Board by the deadline a Community Support Statement. 12 CFR 944.2(b)(2)(i). The member's Bank will provide a blank Community Support Statement Form, which also is available on the Finance Board's Web site: http://WWW.FHFB.GOV. Upon request, the member's Bank also will provide assistance in completing the Community Support Statement.

The Finance Board has selected the following members for the 2004-05 sixth quarter community support review cycle:

Federal Home Loan Bank of Boston—District 1
Charter Oak Federal Credit Union | Groton | Connecticut.
Salisbury Bank and Trust Company | Lakeville | Connecticut.
Chelsea Groton Savings Bank | Norwich | Connecticut.
Rockville Bank | Rockville | Connecticut.
Thomaston Savings Bank | Thomaston | Connecticut.
The Wilton Bank | Wilton | Connecticut.
Kennebec Savings Bank | Augusta | Maine.
Bath Savings Institution | Bath | Maine.
Maine Savings Federal Credit Union | Hampden | Maine.
Androscoggin Savings Bank | Lewiston | Maine.
Saco & Biddeford Savings Institution | Saco | Maine.
Sanford Institution for Savings | Sanford | Maine.
Asian American Bank & Trust Company | Boston | Massachusetts.
The Community Bank | Brockton | Massachusetts.
Chicopee Savings Bank | Chicopee | Massachusetts.
Weymouth Bank | East Weymouth | Massachusetts.
Easthampton Savings Bank | Easthampton | Massachusetts.
Dukes County Savings Bank | Edgartown | Massachusetts.
Bank of Fall River | Fall River | Massachusetts.
Gloucester Cooperative Bank | Gloucester | Massachusetts.
Hudson Savings Bank | Hudson | Massachusetts.
Hyde Park Cooperative Bank | Hyde Park | Massachusetts.
Lee Bank | Lee | Massachusetts.
Washington Savings Bank | Lowell | Massachusetts.
Community Credit Union of Lynn | Lynn | Massachusetts.
Eastern Bank | Lynn | Massachusetts.
National Grand Bank | Marblehead | Massachusetts.
Strata Bank | Medway | Massachusetts.
Middlesex Savings Bank | Natick | Massachusetts.
Newburyport Five Cents Savings Bank | Newburyport | Massachusetts.
North Easton Savings Bank | North Easton | Massachusetts.
Norwood Cooperative Bank | Norwood | Massachusetts.
Seamen's Bank | Provincetown | Massachusetts.
Rockport National Bank | Rockport | Massachusetts.
Granite Savings Bank | Rockport | Massachusetts.
Randolph Savings Bank | Stoughton | Massachusetts.
Walpole Co-operative Bank | Walpole | Massachusetts.
Watertown Savings Bank | Watertown | Massachusetts.
UnitedBank | West Springfield | Massachusetts.
Northern Bank & Trust Company | Woburn | Massachusetts.
First Colebrook Bank | Colebrook | New Hampshire.
NH Federal Credit Union | Concord | New Hampshire
Merrimack County Savings Bank | Concord | New Hampshire.
Laconia Savings Bank | Laconia | New Hampshire.
Mascoma Savings Bank | Lebanon | New Hampshire.
Southern New Hampshire Bank | Salem | New Hampshire.
Federal Home Loan Bank of New York—District 2
United Roosevelt Savings Bank | Carteret | New Jersey.
Skylands Community Bank | Hackettstown | New Jersey.
Haddon Savings Bank | Haddon Heights | New Jersey.
New Community Federal Credit Union | Newark | New Jersey.
Gibraltar Savings Bank, FSB | Newark | New Jersey.
Merrill Lynch Trust Company, FSB | Princeton | New Jersey.
The Rahway Savings Institution | Rahway | New Jersey.
Interchange Bank | Saddle Brook | New Jersey.
Minotola National Bank | Vineland | New Jersey.
Flatbush FS&LA of Brooklyn | Brooklyn | New York.
Manufacturers and Traders Trust Company | Buffalo | New York.
The Bank of Greene County | Catskill | New York.
Ontario National Bank | Clifton Springs | New York.
Bank of Richmondville | Cobleskill | New York.
Fairport Savings Bank | Fairport | New York.
Trustco Bank | Glenville | New York.
Highland Falls FS&LA | Highland Falls | New York.
Steuben Trust Company | Hornell | New York.
Ulster Savings Bank | Kingston | New York.
Suffolk Federal Credit Union | Medford | New York.
Habib American Bank | New York | New York.
Sterling National Bank | New York | New York.
Atlantic Bank of New York | New York | New York.
Rome Savings Bank | Rome | New York.
Sleepy Hollow Bank | Sleepy Hollow | New York.
Solvay Bank | Solvay | New York.
Walden Savings Bank | Walden | New York.
Champlain National Bank | Willsboro | New York.
Banco Popular de Puerto Rico | San Juan | Puerto Rico.
Federal Home Loan Bank of Pittsburgh—District 3
Enterprise Bank | Allison Park | Pennsylvania.
Apollo Trust Company | Apollo | Pennsylvania.
Farmers and Merchants Trust Company of Chambersburg | Chambersburg | Pennsylvania.
Cambria County FS&LA | Cresson | Pennsylvania.
Premier Bank | Doylestown | Pennsylvania.
Portage National Bank | Ebensburg | Pennsylvania.
Elderton State Bank | Elderton | Pennsylvania.
East Penn Bank | Emmaus | Pennsylvania.
First National Bank of Fredericksburg | Fredericksburg | Pennsylvania.
The Gratz National Bank | Gratz | Pennsylvania.
Harleysville National Bank & Trust Company | Harleysville | Pennsylvania.
Irwin Bank and Trust Company | Irwin | Pennsylvania.
The Farmers National Bank of Kittanning | Kittanning | Pennsylvania.
The Bank of Landisburg | Landisburg | Pennsylvania.
First National Bank of Liverpool | Liverpool | Pennsylvania.
The Mars National Bank | Mars | Pennsylvania.
The Fulton County National B&TC | McConnellsburg | Pennsylvania.
The Union National Bank of Mount Carmel | Mt. Carmel | Pennsylvania.
The New Tripoli National Bank | New Tripoli | Pennsylvania.
The National Bank of North East | North East | Pennsylvania.
Police & Fire Federal Credit Union | Philadelphia | Pennsylvania.
Reliance Standard Life Insurance Company | Philadelphia | Pennsylvania.
Phoenixville Federal Bank and Trust | Phoenixville | Pennsylvania.
Orrstown Bank | Shippensburg | Pennsylvania.
Jersey Shore State Bank | Williamsport | Pennsylvania.
PeoplesBank, a Codurus Valley Company | York | Pennsylvania.
First Exchange Bank | Mannington | West Virginia.
Ameribank | Welch | West Virginia.
Federal Home Loan Bank of Atlanta—District 4
AuburnBank | Auburn | Alabama.
First Commercial Bank of Huntsville | Huntsville | Alabama.
Peachtree Bank | Maplesville | Alabama.
The North Jackson Bank | Stevenson | Alabama.
Riverside National Bank | Fort Pierce | Florida.
Community First Credit Union of Florida | Jacksonville | Florida.
Peoples State Bank | Lake City | Florida.
The Bank of Brevard | Melbourne | Florida.
Pinebank | Miami | Florida.
The First National Bank of Florida | Milton | Florida.
SOUTHBank, A Federal Savings Bank | Palm Beach Gardens | Florida.
The Bank of Tampa | Tampa | Florida.
Pilot Bank | Tampa | Florida.
First Commercial Bank of Tampa Bay | Tampa | Florida.
Indian River National Bank | Vero Beach | Florida.
First American Bank and Trust Company | Athens | Georgia.
Main Street Bank | Covington | Georgia.
First State Bank of Randolph County | Cuthbert | Georgia.
Glennville Bank | Glennville | Georgia.
Farmers and Merchants Bank | Lakeland | Georgia.
Security Bank of Bibb County | Macon | Georgia.
Southwest Georgia Bank | Moultrie | Georgia.
Carver State Bank | Savannah | Georgia.
The First State Bank | Stockbridge | Georgia.
Bank of Upson | Thomaston | Georgia.
Thomasville National Bank | Thomasville | Georgia.
Kopernik Federal Bank | Baltimore | Maryland.
Liberty Federal Savings and Loan Association | Baltimore | Maryland.
Slavie Federal Savings Bank | Bel Air | Maryland.
Chesapeake Bank and Trust Company | Chestertown | Maryland.
Mercantile Eastern Shore Bank | Chestertown | Maryland.
Hagerstown Trust Company | Hagerstown | Maryland.
Lafayette Federal Credit Union | Kensington | Maryland.
First United Bank & Trust | Oakland | Maryland.
NBRS Financial | Rising Sun | Maryland.
Bank of Stanly | Albemarle | North Carolina.
Home Savings Bank of Albemarle, SSB | Albemarle | North Carolina.
Self-Help Credit Union | Durham | North Carolina.
Gibsonville Community Bank | Gibsonville | North Carolina.
Farmers & Merchants Bank | Salisbury | North Carolina.
First National Bank of Shelby | Shelby | North Carolina.
Farmers and Merchants Bank of South Carolina | Holly Hill | South Carolina.
Northern Neck State Bank | Bowling Green | Virginia.
American National Bank and Trust Company | Danville | Virginia.
The Bank of Fincastle | Fincastle | Virginia.
Marshall National Bank and Trust Company | Marshall | Virginia.
The Middleburg Bank | Middleburg | Virginia.
First Sentinel Bank | Richlands | Virginia.
First Bank | Strasburg | Virginia.
Federal Home Loan Bank of Cincinnati—District 5
Bedford Loan and Deposit Bank | Bedford | Kentucky.
The Berea National Bank | Berea | Kentucky.
South Central Bank of Bowling Green, Inc | Bowling Green | Kentucky.
Meade County Bank | Brandenburg | Kentucky.
Campbellsville National Bank | Campbellsville | Kentucky.
The First National Bank of Columbia | Columbia | Kentucky.
First National Bank of Northern Kentucky | Ft. Mitchell | Kentucky.
Bank of Germantown | Germantown | Kentucky.
Edmonton State Bank | Glasgow | Kentucky.
South Central Bank of Barren County, Inc | Glasgow | Kentucky.
United Community Bank | Glasgow | Kentucky.
First Security Bank & Trust, McLean | Island | Kentucky.
The First Bremen Bank | Lancaster | Kentucky.
The Lawrenceburg National Bank | Lawrenceburg | Kentucky.
The Farmers National Bank of Lebanon | Lebanon | Kentucky.
Square D Employees' Federal Credit Union | Lexington | Kentucky.
Commonwealth Bank and Trust Company | Louisville | Kentucky.
The Citizens National Bank | Russellville | Kentucky.
Bullitt County Bank | Sheperdsville | Kentucky.
Bank of McCreary County | Whitley City | Kentucky.
Williamsburg National Bank | Williamsburg | Kentucky.
FirstMerit Bank, N.A | Akron | Ohio.
Bethel Building and Loan Company | Bethel | Ohio.
The Equitable Savings and Loan Company | Cadiz | Ohio.
CinFed Employees Federal Credit Union | Cincinnati | Ohio.
The Mt. Washington Savings and Loan Company | Cincinnati | Ohio.
ShoreBank, Cleveland | Cleveland | Ohio.
Community First Bank, National Association | Forest | Ohio.
First Ohio Credit Union, Incorporated | Fostoria | Ohio.
Galion Building and Loan Association | Galion | Ohio.
Second National Bank | Greenville | Ohio.
Greenville National Bank | Greenville | Ohio.
First Federal Savings and Loan Association of Lorain | Lorain | Ohio.
The New Richmond National Bank | New Richmond | Ohio.
Geauga Savings Bank | Newbury | Ohio.
The Ripley National Bank | Ripley | Ohio.
Ripley Federal Savings and Loan Association | Ripley | Ohio.
The First National Bank of Shelby | Shelby | Ohio.
Strasburg Savings Bank | Strasburg | Ohio.
Toledo Area Catholic Credit Union | Sylvania | Ohio.
The Peoples Savings Bank | Urbana | Ohio.
First FS&LA of Van Wert | Van Wert | Ohio.
The Second National Bank of Warren | Warren | Ohio.
Perpetual Savings Bank | Wellsville | Ohio.
People's Community Bank | West Chester | Ohio.
First Federal Savings Bank of Eastern Ohio | Zanesville | Ohio.
The Citizens National Bank of Athens | Athens | Tennessee.
Tennessee Valley Federal Credit Union | Chattanooga | Tennessee.
Bank of Putnam County | Cookeville | Tennessee.
Farmers Bank | Cornersville | Tennessee.
First Federal Bank | Dickson | Tennessee.
Carter County Bank | Elizabethton | Tennessee.
Jackson Bank & Trust | Gainesboro | Tennessee.
Gates Banking & Trust Company | Gates | Tennessee.
Bank of Gleason | Gleason | Tennessee.
Greene County Bank | Greeneville | Tennessee.
Bank of Halls | Halls | Tennessee.
Commercial Bank | Harrogate | Tennessee.
Union Bank | Jamestown | Tennessee.
Bank of Tennessee | Kingsport | Tennessee.
First Bank | Lexington | Tennessee.
Enterprise National Bank | Memphis | Tennessee.
The Bank of Milan | Milan | Tennessee.
Cavalry Banking | Murfreesboro | Tennessee.
Commercial Bank & Trust Company | Paris | Tennessee.
Tennessee State Bank | Pigeon Forge | Tennessee.
The Farmers Bank | Portland | Tennessee.
Central Bank | Savannah | Tennessee.
First Community Bank of Bedford County | Shelbyville | Tennessee.
Farmers & Merchants Bank | Trezevant | Tennessee.
American City Bank | Tullahoma | Tennessee.
Reelfoot Bank | Union City | Tennessee.
Federal Home Loan Bank of Indianapolis—District 6
The New Washington State Bank | Charlestown | Indiana.
First National Bank | Cloverdale | Indiana.
CSB State Bank | Cynthiana | Indiana.
Three Rivers Federal Credit Union | Fort Wayne | Indiana.
Grabill Bank | Grabill | Indiana.
Union Federal Bank of Indianapolis | Indianapolis | Indiana.
Landmark Savings Bank, F.S.B | Indianapolis | Indiana.
Lafayette Savings Bank | Lafayette | Indiana.
Peoples Savings & Loan Association | Monticello | Indiana.
Home Building Savings Bank, FSB | Washington | Indiana.
American Trust and Savings Bank | Whiting | Indiana.
Liberty Savings Bank, FSB | Whiting | Indiana.
FirstBank—Alma | Alma | Michigan.
Signature Bank | Bad Axe | Michigan.
Lake—Osceola State Bank | Baldwin | Michigan.
Central State Bank | Beulah | Michigan.
Eastern Michigan Bank | Croswell | Michigan.
State Bank of Ewen | Ewen | Michigan.
Oakland Commerce Bank | Farmington Hills | Michigan.
Credit Union One | Ferndale | Michigan.
Valley Ridge Bank | Kent City | Michigan.
Co-op Services Credit Union | Livonia | Michigan.
Firstbank | Mount Pleasant | Michigan.
First National Bank of Norway | Norway | Michigan.
Sterling Bank & Trust, FSB | Southfield | Michigan.
First Resource Federal Credit Union | St. Joseph | Michigan.
Federal Home Loan Bank of Chicago—District 7
National Bank of Commerce | Berkeley | Illinois.
Commonwealth Credit Union | Bourbonnais | Illinois.
Prairie Bank and Trust Company | Bridgeview | Illinois.
First National Bank of Brookfield | Brookfield | Illinois.
The Egyptian State Bank | Carrier Mills | Illinois.
Carrollton Bank | Carrollton | Illinois.
ShoreBank | Chicago | Illinois.
The First Commercial Bank | Chicago | Illinois.
Marquette Bank | Chicago | Illinois.
Resource Bank, N.A | DeKalb | Illinois.
Du Quoin State Bank | DuQuoin | Illinois.
Metrobank, N.A | East Molline | Illinois.
Crossroads Bank | Effingham | Illinois.
Midwest Bank and Trust Company | Elmwood Park | Illinois.
Fisher National Bank | Fisher | Illinois.
First State Bank of Forrest | Forrest | Illinois.
Midwest Community Bank | Freeport | Illinois.
Galena State Bank & Trust Company | Galena | Illinois.
Jacksonville Savings Bank | Jacksonville | Illinois.
Kankakee Federal Savings Bank | Kankakee | Illinois.
Union Federal Savings and Loan Association | Kewanee | Illinois.
Citizens State Bank | Lena | Illinois.
Brickyard Bank | Lincolnwood | Illinois.
Bank & Trust Company | Litchfield | Illinois.
Citizens National Bank | Macomb | Illinois.
Okaw Building and Loan, s.b | Mattoon | Illinois.
First Suburban National Bank | Maywood | Illinois.
Community National Bank | Metropolis | Illinois.
Parish Bank and Trust Company | Momence | Illinois.
Morris Building and Loan, s.b | Morris | Illinois.
Warren-Boynton State Bank | New Berlin | Illinois.
First National Bank of Nokomis | Nokomis | Illinois.
Nokomis Savings Bank | Nokomis | Illinois.
Peoples Bank & Trust | Pana | Illinois.
First National Bank of Pana | Pana | Illinois.
Vermillion Valley Bank | Piper City | Illinois.
First State Bank of Red Bud | Red Bud | Illinois.
Lincoln State Bank | Rochelle | Illinois.
Capaha Bank, S.B | Tamms | Illinois.
AmeriMark Bank | Villa Park | Illinois.
Waukegan Savings and Loan, SB | Waukegan | Illinois.
North Shore Trust and Savings | Waukegan | Illinois.
Western Springs National Bank and Trust | Western Springs | Illinois.
Prospect Federal Savings Bank | Worth | Illinois.
First Community Bank, Xenia-Flora | Xenia | Illinois.
American National Bank Fox Cities | Appleton | Wisconsin.
State Bank of Arcadia | Arcadia | Wisconsin.
First National Bank of Barron | Barron | Wisconsin.
Blackhawk State Bank | Beloit | Wisconsin.
First National Bank of Berlin | Berlin | Wisconsin.
Bonduel State Bank | Bonduel | Wisconsin.
Bank of Cashton | Cashton | Wisconsin.
Badger State Bank | Cassville | Wisconsin.
State Bank of Chilton | Chilton | Wisconsin.
American Bank | Eau Claire | Wisconsin.
American Bank | Fond du Lac | Wisconsin.
Franklin State Bank | Franklin | Wisconsin.
Peoples Bank of Wisconsin | Hayward | Wisconsin.
Horicon State Bank | Horicon | Wisconsin.
Farmers State Bank | Markesan | Wisconsin.
Mid Wisconsin Bank | Medford | Wisconsin.
Mitchell Bank | Milwaukee | Wisconsin.
Lincoln State Bank | Milwaukee | Wisconsin.
Bank of Monticello | Monticello | Wisconsin.
The Bank of New Glarus | New Glarus | Wisconsin.
First National Bank of New Richmond | New Richmond | Wisconsin.
The River Bank | Osceola | Wisconsin.
Bank of Poynette | Poynette | Wisconsin.
Johnson Bank | Racine | Wisconsin.
Shell Lake State Bank | Shell Lake | Wisconsin.
Eagle Valley Bank, N.A | St. Croix Falls | Wisconsin.
Superior National Bank | Superior | Wisconsin.
Acuity Bank, SSB | Tomah | Wisconsin.
Shoreline Credit Union | Two Rivers | Wisconsin.
Sunset Bank and Savings | Waukesha | Wisconsin.
The Equitable Bank, S.S.B | Wauwatosa | Wisconsin.
ALLCO Credit Union | West Allis | Wisconsin.
Fortress Bank of Westby | Westby | Wisconsin.
Westby Co-op Credit Union | Westby | Wisconsin.
Federal Home Loan Bank of Des Moines—District 8
Ackley State Bank | Ackley | Iowa.
Exchange State Bank | Adair | Iowa.
First State Bank | Belmond | Iowa.
Columbus Junction State Bank | Columbus Junction | Iowa.
Freedom Security Bank | Coralville | Iowa.
Iowa State Savings Bank | Creston | Iowa.
Decorah Bank & Trust Company | Decorah | Iowa.
AmerUS Life Insurance Company | Des Moines | Iowa.
Dupaco Community Credit Union | Dubuque | Iowa.
The Grundy National Bank | Grundy Center | Iowa.
Hartwick State Bank | Hartwick | Iowa.
Hiawatha Bank & Trust Company | Hiawatha | Iowa.
Community State Bank | Indianola | Iowa.
Green Belt Bank & Trust | Iowa Falls | Iowa.
First National Bank | Le Mars | Iowa.
First National Bank of Muscatine | Muscatine | Iowa.
Security State Bank | New Hampton | Iowa.
Citizen's State Bank | Oakland | Iowa.
First National Bank of Sioux Center | Sioux Center | Iowa.
The Security National Bank of Sioux City, Iowa | Sioux City | Iowa.
Heartland Bank | Somers | Iowa.
Farmers Trust and Savings Bank | Spencer | Iowa.
State Bank | Spencer | Iowa.
First Bank & Trust | Spirit Lake | Iowa.
The Citizens First National Bank of Storm Lake | Storm Lake | Iowa.
West Chester Savings Bank | Washington | Iowa.
Community National Bank | Waterloo | Iowa.
The First National Bank of Waverly | Waverly | Iowa.
Peoples Savings Bank | Wellsburg | Iowa.
Farm Bureau Life Insurance Company | West Des Moines | Iowa.
Farm Bureau Mutual Insurance Company | West Des Moines | Iowa.
Farmers Savings Bank | Wever | Iowa.
State Bank | Worthington | Iowa.
Community America Credit Union | Lenexa | Kansas.
Atwater State Bank | Atwater | Minnesota.
The First National Bank Brewster | Brewster | Minnesota.
City-County Federal Credit Union | Brooklyn Center | Minnesota.
Peoples Bank of Commerce | Cambridge | Minnesota.
First National Bank | Chisholm | Minnesota.
Clinton State Bank | Clinton | Minnesota.
Eitzen State Bank | Eitzen | Minnesota.
Mainstreet Bank | Forest Lake | Minnesota.
Citizens State Bank of Glenville | Glenville | Minnesota.
First Security Bank—Hendricks | Hendricks | Minnesota.
First National Bank of Henning | Henning | Minnesota.
Jackson Federal Savings and Loan Association | Jackson | Minnesota.
Janesville State Bank | Janesville | Minnesota.
Citizens State Bank of Kelliher | Kelliher | Minnesota.
Security State Bank of Kenyon | Kenyon | Minnesota.
State Bank of Long Lake | Long Lake | Minnesota.
Lake Country State Bank | Long Prairie | Minnesota.
United Prairie Bank—Madison | Madison | Minnesota.
Bank of Maple Plain | Maple Plain | Minnesota.
Superior Guaranty Insurance Company | Minneapolis | Minnesota.
Valley Bank & Trust | New Ulm | Minnesota.
Citizens Bank Minnesota | New Ulm | Minnesota.
Community National Bank | Northfield | Minnesota.
Minnwest Bank Ortonville | Ortonville | Minnesota.
Pine River State Bank | Pine River | Minnesota.
First Security Bank—Sanborn | Sanborn | Minnesota.
Americana Community Bank | Sleepy Eye | Minnesota.
Western Bank | St. Paul | Minnesota.
Vermillion State Bank | Vermillion | Minnesota.
Northern State Bank of Virginia | Virginia | Minnesota.
First State Bank of Wabasha | Wabasha | Minnesota.
Heritage Bank, National Association | Willmar | Minnesota.
Merchants Bank NA | Winona | Minnesota.
First State Bank of Wyoming | Wyoming | Minnesota.
Bank of Zumbrota | Zumbrota | Minnesota.
Boone County National Bank | Columbia | Missouri.
Southwest Bank of St. Louis | Des Peres | Missouri.
Commercial Trust Company | Fayette | Missouri.
Home Exchange Bank | Jamesport | Missouri.
Jefferson Bank of Missouri | Jefferson City | Missouri.
Central Bank of Kansas City | Kansas City | Missouri.
Kearney Trust Company | Kearney | Missouri.
Lawson Bank | Lawson | Missouri.
United State Bank | Lewistown | Missouri.
First Missouri State Bank | Poplar Bluff | Missouri.
First State Bank of Purdy | Purdy | Missouri.
The Seymour Bank | Seymour | Missouri.
State Bank of Slater | Slater | Missouri.
Metropolitan National Bank | Springfield | Missouri.
Webb City Bank | Webb City | Missouri.
Heartland State Bank | Edgeley | North Dakota.
Bremer Bank, N.A | Grand Forks | North Dakota.
Stutsman County State Bank | Jamestown | North Dakota.
Northland Financial | Steele | North Dakota.
Peoples State Bank | Westhope | North Dakota.
Security State Bank | Wishek | North Dakota.
Dakota State Bank | Blunt | South Dakota.
BankWest, Inc | Pierre | South Dakota.
Security Bank | Sioux Falls | South Dakota.
First Bank of White | White | South Dakota.
First Dakota National Bank | Yankton | South Dakota.
Federal Home Loan Bank of Dallas—District 9
Bank of Cave City | Cave City | Arkansas.
First National Bank of Crossett | Crossett | Arkansas.
Simmons First Bank of El Dorado, N.A | El Dorado | Arkansas.
Bank of Arkansas, N.A | Fayetteville | Arkansas.
Greers Ferry Lake State Bank | Heber Springs | Arkansas.
First National Bank of Phillips County | Helena | Arkansas.
American State Bank | Jonesboro | Arkansas.
Little River Bank | Lepanto | Arkansas.
Malvern National Bank | Malvern | Arkansas.
Merchants and Planters Bank | Newport | Arkansas.
Pinnacle Bank | Pocahontas | Arkansas.
American Founders Life Insurance Company | Indianapolis | Indiana.
The Cottonport Bank | Cottonport | Louisiana.
Kaplan State Bank | Kaplan | Louisiana.
Sabine State Bank and Trust Company, Inc | Many | Louisiana.
Exchange Bank and Trust Company | Natchitoches | Louisiana.
Liberty Bank and Trust Company | New Orleans | Louisiana.
Sicily Island State Bank | Sicily Island | Louisiana.
St. Martin Bank and Trust Company | St. Martinville | Louisiana.
Concordia Bank & Trust Company | Vidalia | Louisiana.
The Evangeline Bank & Trust Company | Ville Platte | Louisiana.
Progressive Bank | Winnsboro | Louisiana.
First Security Bank | Batesville | Mississippi.
Peoples Bank of Franklin County | Bude | Mississippi.
Bank of the South | Crystal Springs | Mississippi.
Community Bank of Mississippi | Forest | Mississippi.
Community Bank | Laurel | Mississippi.
Century Bank | Lucedale | Mississippi.
Great Southern National Bank | Meridian | Mississippi.
The Commercial Bank | Meridian | Mississippi.
Newton County Bank | Newton | Mississippi.
First National Bank of Oxford | Oxford | Mississippi.
The Citizens Bank of Philadelphia | Philadelphia | Mississippi.
Renasant Bank | Tupelo | Mississippi.
The Bank of Belen | Belen | New Mexico.
The Carlsbad National Bank | Carlsbad | New Mexico.
Western Bank | Lordsburg | New Mexico.
Community Bank | Santa Fe | New Mexico.
Centinel Bank of Taos | Taos | New Mexico.
Amarillo National Bank | Amarillo | Texas.
First National Bank of Bastrop | Bastrop | Texas.
Citizens State Bank | Buffalo | Texas.
1st Community Bank | Corpus Christi | Texas.
National Bank of Daingerfield | Daingerfield | Texas.
Town North National Bank | Dallas | Texas.
First National Bank | Edinburg | Texas.
First National Bank | El Paso | Texas.
First National Bank | Fairfield | Texas.
First National Bank in Graham | Graham | Texas.
First State Bank, Granger | Granger | Texas.
First Community Credit Union | Houston | Texas.
First National Bank of Huntsville | Huntsville | Texas.
The Laredo National Bank | Laredo | Texas.
First State Bank of Livingston | Livingston | Texas.
The First National Bank of Livingston | Livingston | Texas.
Lone Star Bank, S.S.B | Moulton | Texas.
Equity Bank, S.S.B | Mt. Vernon | Texas.
First State Bank | New Braunfels | Texas.
Texas State Bank | San Angelo | Texas.
Commercial National Bank | Texarkana | Texas.
Treaty Oak Bank | Texline | Texas.
Randolph-Brooks Federal Credit Union | Universal City | Texas.
American Bank, N.A | Waco | Texas.
Union Square Federal Credit Union | Wichita Falls | Texas.
Federal Home Loan Bank of Topeka—District 10
FirstBank of Arvada | Arvada | Colorado.
FirstBank of Aurora | Aurora | Colorado.
FirstBank of Douglas County | Castle Rock | Colorado.
Western National Bank of Colorado | Colorado Springs | Colorado.
FirstBank of Lakewood | Lakewood | Colorado.
FirstBank of Littleton | Littleton | Colorado.
Olathe State Bank | Olathe | Colorado.
FirstBank of Silverthorne | Silverthorne | Colorado.
First National Bank | Telluride | Colorado.
WestStar Bank | Vail | Colorado.
FirstBank of Wheat Ridge | Wheat Ridge | Colorado.
Colorado Community Bank | Yuma | Colorado.
The First State Bank of Burlingame | Burlingame | Kansas.
The Farmers State Bank | Circleville | Kansas
Emporia State Bank and Trust Company | Emporia | Kansas.
Home State Bank | Erie | Kansas.
Union State Bank | Everest | Kansas.
First Community Bank | Kansas City | Kansas.
First National Bank & Trust Co. in Larned | Larned | Kansas.
Gold Bank | Leawood | Kansas.
The Bank | Oberlin | Kansas.
First State Bank and Trust | Tonganoxie | Kansas.
Security Benefit Life Insurance Company | Topeka | Kansas.
Commerce Bank and Trust | Topeka | Kansas.
Capital City Bank | Topeka | Kansas.
Wellsville Bank | Wellsville | Kansas.
Boeing Wichita Credit Union | Wichita | Kansas.
Emprise Bank National Association | Wichita | Kansas.
First National Bank & Trust Company | Beatrice | Nebraska.
Exchange Bank | Gibbon | Nebraska.
First State Bank | Gothenburg | Nebraska.
Bank of Nebraska | La Vista | Nebraska.
West Gate Bank | Lincoln | Nebraska.
Home State Bank | Louisville | Nebraska.
Bank of Mead | Mead | Nebraska.
Farmers & Merchants Bank | Milford | Nebraska.
First State Bank | Scottsbluff | Nebraska.
Cattle National Bank & Trust Company | Seward | Nebraska.
The First National Bank of Valentine | Valentine | Nebraska.
CharterWest National Bank | West Point | Nebraska.
Winside State Bank | Winside | Nebraska.
AmeriState Bank | Atoka | Oklahoma.
The First National Bank of Chelsea | Chelsea | Oklahoma.
ABC Bank | Cherokee | Oklahoma.
First Commercial Bank | Edmond | Oklahoma.
Grand Savings Bank | Grove | Oklahoma.
American Fidelity Assurance Company | Oklahoma City | Oklahoma.
Weokie Credit Union | Oklahoma City | Oklahoma.
First National Bank & Trust Co. of Weatherford | Weatherford | Oklahoma.
First National Bank in Wewoka | Wewoka | Oklahoma.
Federal Home Loan Bank of San Francisco—District 11
Omni Bank, N.A. | Alhambra | California.
First National Bank | Brea | California.
Western Sierra National Bank | Cameron Park | California.
First Coastal Bank | El Segundo | California.
Lake Community Bank | Lakeport | California.
Farmers & Merchants Bank of Central California | Lodi | California.
Center Bank | Los Angeles | California.
Wilshire State Bank | Los Angeles | California.
Nara Bank | Los Angeles | California.
County Bank | Merced | California.
Heritage Oaks Bank | Paso Robles | California.
Valley Community Bank | Pleasanton | California.
1st Centennial Bank | Redlands | California.
Provident Central Credit Union | Redwood City | California.
Alliance Credit Union | San Jose | California.
Silver State Bank | Henderson | Nevada.
Federal Home Loan Bank of Seattle—District 12
Honolulu City & County Employees FCU | Honolulu | Hawaii.
Rocky Mountain Bank | Billings | Montana.
Native American Bank, N.A | Browning | Montana.
Mountain West Bank, N.A | Helena | Montana.
Three Rivers Bank of Montana | Kalispell | Montana.
First National Bank of Lewistown | Lewistown | Montana.
Bitterroot Valley Bank | Lolo | Montana.
Missoula Federal Credit Union | Missoula | Montana.
Western Bank of Wolf Point | Wolf Point | Montana.
Rogue Federal Credit Union | Medford | Oregon.
First National Bank of Layton | Layton | Utah.
Capital Community Bank | Orem | Utah.
Deseret First Credit Union | Salt Lake City | Utah.
Anchor Bank | Aberdeen | Washington.
The Bank of The Pacific | Aberdeen | Washington.
Whatcom Educational Credit Union | Bellingham | Washington.
Security State Bank | Centralia | Washington.
North Cascades National Bank | Chelan | Washington.
Bank of Whitman | Colfax | Washington.
Islanders Bank | Friday Harbor | Washington.
Community First Bank | Kennewick | Washington.
Security Bank of Washington | Mountlake Terrace | Washington.
Sound Community Bank | Seattle | Washington.
NorthStar Bank | Seattle | Washington.
Yakima Valley Credit Union | Yakima | Washington.
Yakima National Bank | Yakima | Washington.
First National Bank of Wyoming | Laramie | Wyoming.
The Rawlins National Bank | Rawlins | Wyoming.
First State Bank | Wheatland | Wyoming.

II. Public Comments

To encourage the submission of public comments on the community support performance of Bank members, on or before August 1, 2005, each Bank will notify its Advisory Council and nonprofit housing developers, community groups, and other interested parties in its district of the members selected for community support review in the 2004-05 sixth quarter review cycle. 12 CFR 944.2(b)(2)(ii). In reviewing a member for community support compliance, the Finance Board will consider any public comments it has received concerning the member. 12 CFR 944.2(d). To ensure consideration by the Finance Board, comments concerning the community support performance of members selected for the 2004-05 sixth quarter review cycle must be delivered to the Finance Board on or before the August 1, 2005 deadline for submission of Community Support Statements.

John P. Kennedy,
General Counsel.

[FR Doc. 05-12951 Filed 7-14-05; 8:45 am]

BILLING CODE 6725-01-P